FEDERAL ELECTION COMMISSION

Sunshine Act Meeting

AGENCY: Federal Election Commission.

FEDERAL REGISTER CITATION OF PREVIOUS ANNOUNCEMENT—78 FR 75568 (December 12, 2013).

DATE AND TIME: Tuesday, December 17, 2013 at the conclusion of the open meeting and its continuation on Thursday, December 19, 2013 at 10:00 a.m.

PLACE: 999 E Street NW., Washington, DC

STATUS: This meeting will be closed to the public.

CHANGES IN THE MEETING: The December 19, 2013 meeting has been cancelled.

PERSON TO CONTACT FOR INFORMATION: Judith Ingram, Press Officer, Telephone: (202) 694-1220.

Shelley E. Garr,
Deputy Secretary of the Commission.

[FR Doc. 2013-30606 Filed 12-19-13; 11:15 am]

BILLING CODE 6715-01-P